FEDERAL MARITIME COMMISSION

Ocean Transportation Intermediary License; Correction

In the Federal Register Notice published December 11, 2003 (68 FR 69083) the reference to Colonial Trade Co., Inc. is corrected to read:

License Number: 4527F.

Name: Colonial Trade Co., Inc.

Address: 8319 Lages Lane, Baltimore, MD 21244.

Date Revoked: November 27, 2003.

Reason: Surrendered license voluntarily.

Dated: December 19, 2003.
Bryant L. VanBrakle,
Secretary.

[FR Doc. 03-31764 Filed 12-23-03; 8:45 am]

BILLING CODE 6730-01-P